DEPARTMENT OF AGRICULTURE

Forest Service

Klamath Provincial Advisory Committee (PAC); Meeting

AGENCY: Forest Service, USDA.

ACTION: Notice of meeting.

SUMMARY: The Klamath Provincial Advisory Committee will meet on November 13-14, 2003, at the Northern California Service Center, 6101 Airport Road, Redding, California. The meeting will start at 1 p.m. and adjourn at 5 p.m. on November 13, and start at 8 a.m. and adjourn at 12 noon on November 14. Agenda items for the meeting include: (1) Discussion on topics of general interest to the PAC (recruitment of new members, issue development process); (2) Vegetative Treatments in Late Successional Reserves; (3) Salvage Harvest After Wildfire Recommendations; and (4) Public Comment Periods. All Provincial Advisory Committee meetings are open to the public. Interested Citizens are encouraged to attend.

FOR FURTHER INFORMATION CONTACT: Jan Ford, USDA, Klamath National Forest, 1312 Fairlane Road, Yreka, California 96097; telephone (530) 841—4483 (voice), TDD (530) 841-4573.

Dated: October 21, 2003.
Margaret J. Boland,
Designated Federal Official, Klamath PAC.

[FR Doc. 03-27918 Filed 11-5-03; 8:45 am]

BILLING CODE 3410-11-M